DEPARTMENT OF LABOR

Employment and Training Administration

[TA-W-37,060]

Liz Claiborne, North Bergen, NJ; Notice of Negative Determination Regarding Application for Reconsideration

By application dated March 30, 2000, the Union of Needletrades, Industrial and Textile Employees (UNITE) request administrative reconsideration of the Department's negative determination regarding eligibility to apply for Trade Adjustment Assistance (TAA), applicable to workers and former workers of the subject firm. The denial notice was signed on February 29, 2000, and published in the Federal Register on March 17, 2000 (65 FR 14627).

Pursuant to 29 CFR 90.18(c) reconsideration may be granted under the following circumstances:

(1) If it appears on the basis of facts not previously considered that the determination complained of was erroneous;

(2) If it appears that the determination complained of was based on a mistake in the determination of facts not previously considered; or

(3) If in the opinion of the Certifying Officer, a misinterpretation of facts or of the law justified reconsideration of the decision.

The February 29, 2000 denial of TAA for workers producing samples and patterns at Liz Claiborne, North Bergen, New Jersey, was based on the finding that the “contributed importantly” test of the worker group eligibility requirements of Section 222 of the Trade Act of 1974 was not met. The investigation revealed that the layoffs at the subject firm were not related to increased imported but instead, a restructuring of operations at the subject facility.

The petitioners disagree with the statement in the denial notice that “Samples produced at the subject facility are used in the company's worldwide production of apparel and could not therefore, have been adversely affected by increased imports.” UNITE believes that the Department set a precedent when it certified other sample-making workers.

The TAA certifications referenced by UNITE were applicable to workers of those companies where sample-making/cutting were shifted abroad and the samples were returning to the United States. That is not the case for the workers producing samples and patterns at Liz Claiborne in North Bergen, New Jersey. UNITE states North Bergen employees no longer produce certain sizes of sample garments. The Department's investigation, however, revealed that the company chose to reduce sample making and patterns at North Bergen.

UNITE suggests that the company's apparent decision to shift sample making and patterns abroad support a certification. However, there is no provision in the group eligibility requirements of Section 222 of the Trade Act of 1974 to certify workers based on a shift in production.

UNITE asserts that imports of articles at a later stage of processing have had an economic effect on the North Bergen workers comparable to the effect of importation of foreign-made sample garments and/or markers by definition in the Code of Federal Regulations, 29 CFR 90.2. The Department points out that the importation of the article (apparel) would have to have an economic effect on producers of the domestic article (samples and patterns) in the same stage as processing as the domestic article. In this case the importation of apparel is not in the same stage of processing as samples and patterns.

Conclusion

After review of the application and investigation findings, I conclude that there has been no error or misinterpretation of the law or of the facts which would justify reconsideration of the Department of Labor's prior decision. Accordingly, the application is denied.

Signed at Washington, D.C. this 22nd day of May 2000.
Grant D. Beale,
Program Manager, Division of Trade Adjustment Assistance.

[FR Doc. 00-13756 Filed 6-1-00; 8:45 am]

BILLING CODE 4510-30-M